AGENCY FOR INTERNATIONAL DEVELOPMENT

Office of Inspector General; Senior Executive Services (SES) Performance Review Board (PRB): Updating

ACTION: Notice.

SUMMARY: This notice is hereby given of the appointment of members of the updated U.S. Agency for International Development (USAID), Office of Inspector General (OIG), SES PRB.

DATES: May 22, 2007.

FOR FURTHER INFORMATION CONTACT: Paula F. Hayes, Assistant Inspector General for Management, Office of Inspector General, U.S. Agency for International Development, 1300 Pennsylvania Avenue, NW., Room 8.08-029, Washington, DC 20523-8700; telephone 202-712-0010; FAX 202-216-3392; Internet e-mail address: phayes@usaid.gov (for e-mail messages, the subject line should include the following reference—USAID OIG SES PRB).

SUPPLEMENTARY INFORMATION: 5 U.S.C. 4314(b)(c) requires each agency to establish, in accordance with regulations prescribed by the Office of Personnel Management at 5 CFR part 430, subpart C and Section 430.307 thereof in particular, one or more SES PRBs. The PRB shall review and evaluate the initial appraisal of each USAID OIG senior executive's performance by his or her supervisor, along with any recommendations to the appointing authority relative to the performance of the senior executive. This notice updates the membership of the USAID OIG's SES PRB as it was last published.

Approved: May 22, 2007.

The following have been selected as regular members of the SES PRB of USAID OIG:

Michael G. Carroll, Deputy Inspector General.

Joseph Farinella, Assistant Inspector General for Audit.

Adrienne R. Rish, Assistant Inspector General for Investigations.

Paula F. Hayes, Assistant Inspector General for Management.

Lisa S. Goldfluss, Legal Counsel.

Bruce N. Boyer, Deputy Assistant Inspector General for Audit.

Alvin A. Brown, Deputy Assistant Inspector General for Audit.

Howard I. Hendershot, Deputy Assistant Inspector General for Investigations.

Winona H. Varnon, Director, Security Services, Department of Education.

Pauline K. Brunelli, Director, Federal Voting Assistance Program Department of Defense.

Dated: May 23, 2007.
Donald A. Gambatesa,
Inspector General, U.S. Agency for International Development.

[FR Doc. E7-10413 Filed 5-30-07; 8:45 am]

BILLING CODE 6116-01-P